DEPARTMENT OF TRANSPORTATION

Surface Transportation Board

[STB Finance Docket No. 34709]

Soo Line Railroad Company—Trackage Rights Exemption—Norfolk Southern Railway Company

Pursuant to a trackage rights agreement dated May 25, 2005, between Soo Line Railroad Company (Soo Line) and Norfolk Southern Railway Company (NSR), ¹ NSR has agreed to grant Soo Line overhead trackage rights over the following segments: (1) Between Delray Interlocking in Detroit, MI, at milepost 4.4 ± of the Detroit District, and the point of connection of the new 1,982 foot long Butler Connecting Track at milepost D113.65 ± of NSR's Huntingdon District Line; (2) between the point of connection of the Butler Connecting Track at milepost D113.65 ± of NSR's Huntingdon District Line and the point of connection of the Butler Connecting Track with NSR's Chicago Line at milepost CD358.56 ±; and (3) between the point of connection of the Butler Connecting Track with NSR's Chicago Line at milepost CD358.56 ±, and one of the following two points in Chicago, IL: (a) CP-502 at milepost 502.8 ± and (b) CP 509 at milepost 509.7 ±, a total distance of 253.9 miles (in the case of CP-502) and 260.8 miles (in the case of CP-509).

¹ A redacted version of the trackage rights agreement between NSR and Soo Line was filed with the notice of exemption. The full version of the agreement, as required by 49 CFR 1180.6(a)(7)(ii), was concurrently filed under seal along with a motion for protective order. A protective order was served on June 21, 2005.

The three segments are non-separable portions of a single unified route over which Soo Line will operate under the trackage rights. Whether Soo Line trains will operate over the route via CP-502 or via CP-509 will be determined, on a train-by-train basis, pursuant to the procedures and protocols set forth in the trackage rights agreement.

Soo Line states that the trackage rights will be effective on a date mutually agreed to in writing between Soo Line and NSR, which shall not occur until the latest of (1) the date upon which construction of the Butler Connecting Track is completed; (2) the effective date of any required Board authorization or exemption of the trackage rights (including compliance with any condition(s) imposed by the Board); and (3) the expiration of any required labor notices.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34709, must be filed with the Surface Transportation Board, 1925 K Street, NW., Washington, DC 20423-0001. In addition, a copy of each pleading must be served on Terence M. Hynes, Sidley Austin Brown & Wood LLP, 1501 K Street, NW., Washington, DC 20005.

Board decisions and notices are available on our Web site at http://www.stb.dot.gov.

Decided: June 21, 2005.
By the Board, David M. Konschnik, Director, Office of Proceedings.
Vernon A. Williams,
Secretary.

[FR Doc. 05-12569 Filed 6-23-05; 8:45 am]

BILLING CODE 4915-01-P